UNITED STATES INSTITUTE OF PEACE

Sunshine Act Meeting

DATE/TIME: Thursday, November 18, 2004, 9:15 a.m.-4:30 p.m.

LOCATION: 1200 17th Street, NW., Suite 200—Conference Room, Washington, DC 20036.

STATUS: Open Session—Portions may be closed pursuant to subsection (c) of section 552(b) of Title 5, United States Code, as provided in subsection 1706(h)(3) of the United States Institute of Peace Act, Public Law 98-525.

AGENDA: November 2004 Board Meeting; Approval of Minutes of the One Hundred Sixteenth Meeting (September 17, 2004) of the Board of Directors; Chairman's Report; President's Report; Program Reports; Organizational Review; Grand Recommendation Approval; Selection of NPEC topic; Other General Issues.

CONTACT: Ms. Tessie Higgs, Executive Office, Telephone: (202) 429-3836.

Dated: October 22, 2004.
Harriet Hentges,
Executive Vice President United States Institute of Peace.

[FR Doc. 04-24178 Filed 10-26-04; 10:55 am]

BILLING CODE 6820-AR-M